DEPARTMENT OF AGRICULTURE

Forest Service

Humboldt (NV) Resource Advisory Committee

AGENCY: Forest Service, USDA.

ACTION: Notice of meeting.

SUMMARY: The Humboldt (NV) Resource Advisory Committee will meet in Winnemucca, Nevada. The committee is meeting as authorized under the Secure Rural Schools and Community Self-Determination Act (Pub. L. 110-343) and in compliance with the Federal Advisory Committee Act. The purpose is to hold the first meeting of the newly formed committee.

DATES: The meeting will be held May 21, 2011 from 9:30 a.m. to 5:30 p.m.

ADDRESSES: The meeting will be held at the Humboldt County Court House Room 201, 50 West 5th Street, Winnemucca, Nevada. Written comments should be sent to USDA Forest Service, 1500 E. Winnemucca Blvd., Winnemucca, NV 89445. Comments may also be sent via e-mail to sjingram@fs.fed.us, or via facsimile to 775-625-1200.

All comments, including names and addresses when provided, are placed in the record and are available for public inspection and copying. The public may inspect comments received at http://fs.usda.gov/goto/htnf/rac.

FOR FURTHER INFORMATION CONTACT: Shonna Ingram, RAC Coordinator, Santa Rosa Ranger District Humboldt-Toiyabe National Forest, 775-623-5025 Ext 117.

Individuals who use telecommunication devices for the deaf (TDD) may call the Federal Information Relay Service (FIRS) at 1-800-877-8339 between 8 a.m. and 8 p.m., Eastern Standard Time, Monday through Friday.

SUPPLEMENTARY INFORMATION: The meeting is open to the public. The following business will be conducted: (1) Introductions of all committee members and Forest Service personnel; (2) orientation to the process of considering and recommending Title II projects; (3) committee members to select a chairperson; (4) committee members to establish RAC operating guidelines; and (5) public Comment. Persons who wish to bring related matters to the attention of the Committee may file written statements with the Committee staff before or after the meeting. Public input sessions will be provided and individuals who made written requests by May 13, 2011 will have the opportunity to address the Committee at those sessions.

Dated: April 6, 2011.
Jeanne M. Higgins,
Forest Supervisor, Humboldt-Toiyabe National Forest.

[FR Doc. 2011-9095 Filed 4-13-11; 8:45 am]

BILLING CODE 3410-11-P